ENVIRONMENTAL PROTECTION AGENCY

40 CFR Part 180

[EPA-HQ-OPP-2015-0212; FRL-9929-12]

RIN 2070-ZA16

Aldicarb, Alternaria destruens, Ampelomyces quisqualis, Azinphos-methyl, Etridiazole, Fenarimol, et al.; Proposed Tolerance and Tolerance Exemption Actions

AGENCY: Environmental Protection Agency (EPA).

ACTION: Proposed rule.

SUMMARY: EPA is proposing, in follow-up to canceled product registrations or uses, to revoke certain tolerances for acephate, aldicarb, azinphos-methyl, etridiazole, fenarimol, imazamethabenz-methyl, tepraloxydim, thiacloprid, thiazopyr, and tralkoxydim, and tolerance exemptions for certain pesticide active ingredients. Also, EPA is proposing to make minor revisions to the section heading and introductory text for Pythium oligandrum DV 74. In addition, in accordance with current Agency practice, EPA is proposing to make minor revisions to the tolerance expression for imazamethabenz-methyl, and remove expired tolerances and tolerance exemptions for certain pesticide active ingredients.

DATES: Comments must be received on or before September 21, 2015.

ADDRESSES: Submit your comments, identified by docket identification (ID) number EPA-HQ-OPP-2015-0212, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. What can I do if I wish the agency to maintain a tolerance that the agency proposes to revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under the Federal Food, Drug, and Cosmetic Act (FFDCA) section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What action is the agency taking?

EPA is proposing, in follow-up to canceled product registrations or uses, to revoke certain tolerances for the fungicides etridiazole and fenarimol; the herbicides imazamethabenz-methyl, tepraloxydim, thiazopyr, and tralkoxydim; the insecticides acephate, aldicarb, azinphos-methyl, and thiacloprid, in or on commodities listed in the regulatory text; and revoke certain tolerance exemptions for various microbial or biochemical pesticides. Also, EPA is proposing to make minor revisions to the section heading and introductory text for Pythium oligandrum DV 74. In addition, in accordance with current Agency practice, EPA is proposing to make minor revisions to the tolerance expression for imazamethabenz-methyl, and remove expired tolerances and tolerance exemptions for various pesticide active ingredients.

In addition, EPA is proposing to revoke certain specific tolerances because either they are no longer needed or are associated with food uses that are no longer registered under FIFRA. Those instances where registrations were canceled were because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or legally treated domestic commodities.

1. Acephate. In the Federal Register notice of July 13, 2011 (76 FR 41250) (FRL-8879-7), EPA announced its receipt of voluntary requests by registrants to amend certain registrations, including amendments that would terminate the use of acephate on succulent beans as a food use on technical registrations for acephate. In the Federal Register notice of September 14, 2011 (76 FR 56753) (FRL-8888-2), EPA granted the requested amendments to terminate certain uses, including use of acephate on succulent beans as a food use. In late 2012 and early 2013, EPA issued letters to registrants with end-use registrations for acephate use on succulent beans to explain that all end-use products needed amendment to prohibit such use as a food. Since then, all but three of those acephate product labels with a food use on succulent beans have been voluntarily amended with restrictions that prohibit use on succulent beans as a food. One of the remaining acephate products with use on succulent beans as a food is now canceled. In the Federal Register notice of March 12, 2015 (80 FR 12996) (FRL-9923-27), EPA announced its receipt of voluntary requests by registrants to cancel certain product registrations, including certain acephate products, one of which is registered for use on succulent beans as a food. In the Federal Register notice of June 3, 2015 (80 FR 31596) (FRL-9926-88), EPA published a cancellation order in follow-up to the March 12, 2015 notice and granted the requested product cancellations for acephate. Because the registrant ended the manufacture and distribution of these canceled acephate products about 6 to 7 years ago, EPA believes that existing stocks for these canceled acephate products are now exhausted. Two of the remaining acephate products with food uses for succulent beans have labels that are in process to be amended, to prohibit such use as a food, and await approval by the Agency. One product's label has been re-submitted for Agency review, while another product's label, recently in review, needs to be sent back to the registrant for re-submission to the Agency. EPA expects that both acephate labels could be submitted and their amendments approved by the Agency before a final rule is published in the Federal Register in follow-up to this proposed rule. Upon completion of the amendments for the two acephate products in process, there would no longer be any active food uses for acephate on succulent beans and therefore no longer any need for the acephate tolerances on succulent beans. Therefore, EPA is proposing to revoke the tolerances for acephate in 40 CFR 180.108(a)(1) and (a)(3) on bean, succulent.

2. Aldicarb. In the Federal Register notice of October 8, 2008 (73 FR 58958) (FRL-8385-2), EPA announced its receipt of voluntary requests by registrants to cancel and amend certain product registrations, including deletion of the sorghum use for aldicarb from two registrations. In the Federal Register notice of May 20, 2009 (74 FR 23690) (FRL-8412-8), EPA published a cancellation order and granted the requested amendments to terminate certain uses in follow-up to the October 8, 2008 notice, including deletion of the sorghum uses for aldicarb from two registrations. EPA permitted persons other than the registrant to sell, distribute, or use the existing stocks until supplies are exhausted. Also, in the Federal Register notice of December 10, 2008 (73 FR 75105) (FRL-8393-7), EPA announced its receipt of voluntary requests by registrants to cancel certain product registrations, including the last aldicarb registration with sorghum use in the United States. In a letter to the registrant dated June 8, 2009, EPA cancelled the last aldicarb registration with sorghum use and permitted persons other than the registrant to sell, distribute, or use the existing stocks until supplies are exhausted. EPA believes that existing stocks regarding these three aldicarb registrations described herein are now exhausted. Therefore, EPA is proposing to revoke the tolerances for aldicarb in 40 CFR 180.269(a) on sorghum, grain, bran; sorghum, grain, grain; and sorghum, grain, stover.

3. Alternaria destruens strain 059. In the Federal Register of July 24, 2009 (74 FR 36699) (FRL-8427-4), EPA published a list of cancellation orders issued for non-payment of the annual maintenance fee to keep pesticide registrations in effect. That list included cancellation orders for the last active registrations for Alternaria destruens strain 059. There have been no active registrations for over 5 years, and therefore the tolerance exemption for Alternaria destruens strain 059 is no longer needed and should be revoked. Consequently, EPA is proposing to revoke the tolerance exemption when used in or on all raw agricultural commodities for Alternaria destruens strain 059 in 40 CFR 180.1256.

4. Azinphos-methyl (AZM). In the Federal Register notice of August 8, 2007 (72 FR 44511) (FRL-8134-7), EPA announced its receipt of voluntary requests by registrants to cancel all remaining AZM products registered for use in the United States by September 30, 2012. In the Federal Register notice of February 20, 2008 (73 FR 9328) (FRL-8349-8), as corrected on March 26, 2008 (73 FR 16006) (FRL-8355-1), EPA published a cancellation order in follow-up to the August 8, 2007 notice, and granted the requested product cancellations for AZM. Among the AZM cancellations, EPA permitted distribution, sale, and use of existing stocks of the last AZM products (use on apples, blueberries, cherries, parsley, and pears) until September 30, 2012. On November 28, 2012 (77 FR 70998) (FRL-9363-9), EPA modified the cancellation order of February 20, 2008 to permit use of existing stocks of the last AZM products (use on apples, blueberries, cherries, parsley, and pears) until September 30, 2013. Because existing stocks may no longer be used, the tolerances are no longer needed and should be revoked. Consequently, EPA is proposing to revoke the tolerances for AZM in 40 CFR 180.154(a) on almond; almond, hulls; apple; blackberry; blueberry; boysenberry; Brussels sprouts; cherry; crabapple; loganberry; parsley, leaves; parsley, turnip rooted, roots; peach; pear; pistachio; plum, prune; quince; raspberry; and walnut. Also, EPA proposes to remove the AZM tolerance in 40 CFR 180.154(a) on cranberry which expired on December 31, 2012.

5. Butylate. Because the tolerances in 40 CFR 180.232 for residues of butylate all expired on March 23, 2013, EPA proposes to remove that section in its entirety.

6. Cacodylic acid. Because the sole tolerance in 40 CFR 180.311 for cacodylic acid residues of concern expired on January 1, 2012, EPA proposes to remove that section in its entirety.

7. Chloroneb. Because the tolerances in 40 CFR 180.257 for chloroneb residues of concern all expired on April 16, 2012, EPA proposes to remove that section in its entirety.

8. Clofencet. Because the tolerances in 40 CFR 180.497 for residues of clofencet all expired on July 14, 2012, EPA proposes to remove that section in its entirety.

9. Delta endotoxin of Bacillus thuringiensis variety San Diego encapsulated into killed Pseudomonas fluorescens. In the Federal Register of November 6, 2003 (68 FR 62785) (FRL-7331-3), EPA published a list of cancellation orders issued for non-payment of the annual maintenance fee to keep pesticide registrations in effect. That list included cancellation orders for the last active registration for the delta endotoxin of Bacillus thuringiensis variety San Diego. There have been no active registrations for over eleven years, and therefore the tolerance exemption for them is no longer needed and should be revoked. Consequently, EPA is proposing to revoke the tolerance exemption in or on all raw agricultural commodities for the delta endotoxin of Bacillus thuringiensis variety San Diego in 40 CFR 180.1108.

10. 2,2-Dimethyl-1,3-benzodioxol-4-ol methylcarbamate. Because the two tolerances in 40 CFR 180.530 for residues of 2,2-dimethyl-1,3-benzodioxol-4-ol methylcarbamate expired on April 26, 2005, EPA proposes to remove that section in its entirety.

11. Etridiazole (5-ethoxy-3-(trichloromethyl)-1,2,4-thiadiazole). In the Federal Register notice of November 20, 2013 (78 FR 69666) (FRL-9902-40), EPA announced its receipt of voluntary requests by registrants to cancel certain product registrations, including the last etridiazole product registered for use on specific food commodities (barley, bean, corn, pea, peanut, safflower, sorghum, soybean, and wheat) in the United States. In the Federal Register notice of March 13, 2014 (79 FR 14247) (FRL-9905-37), EPA published a cancellation order in follow-up to the November 20, 2013 notice and granted the requested product cancellations for etridiazole. EPA permitted the registrant to sell and distribute existing stocks of those etridiazole products until March 13, 2015 and persons other than the registrant to sell, distribute, or use the existing stocks until supplies are exhausted. EPA believes that existing stocks are likely to be exhausted by March 13, 2016. However, as explained in Unit II.C., EPA is proposing that the actions herein become effective 6 months after the date of publication of the final rule in the Federal Register. Consequently, EPA expects that the effective date of the final rule will occur after existing stocks are exhausted; i.e., after March 13, 2016. Therefore, EPA is proposing to revoke the tolerances for etridiazole (5-ethoxy-3-(trichloromethyl)-1,2,4-thiadiazole) in 40 CFR 180.370(a) on barley, grain; barley, hay; corn, field, forage; corn, field, grain; corn, field, stover; corn, sweet, forage; corn, sweet, stover; peanut; peanut, hay; safflower, seed; sorghum, grain, forage; sorghum, grain, grain; vegetable, foliage of legume, group 7; vegetable, legume, group 6; wheat, forage; wheat, grain; and wheat, straw.

12. Eucalyptus oil. Because time-limited tolerance exemptions in 40 CFR 180.1241 for the use of the pesticide Eucalyptus oil on honey and honeycomb expired on June 30, 2007, EPA is proposing to remove them from 40 CFR 180.1241, and remove that section in its entirety.

13. Fenarimol. In the Federal Register notice of February 22, 2012 (77 FR 10516) (FRL-9336-4), EPA announced its receipt of voluntary requests by registrants to cancel certain product registrations, including the last fenarimol products registered for use on specific food commodities (apple, cherry, grape, hazelnut, hops, pear, and pecan) in the United States. In the Federal Register notice of May 2, 2012 (77 FR 26004) (FRL-9347-4), EPA published a cancellation order in follow-up to the February 22, 2012 notice and granted the requested product cancellations for fenarimol. EPA permitted the registrant to sell and distribute existing stocks of those fenarimol products until July 31, 2013 and persons other than the registrant to sell and distribute existing stocks through July 31, 2015, and use the existing stocks until supplies are exhausted. EPA believes that existing stocks are likely to be exhausted by July 31, 2016. Therefore, EPA is proposing to revoke the tolerances for fenarimol in 40 CFR 180.421(a) on apple; apple, wet pomace; cattle, fat; cattle, kidney; cattle, meat; cattle, meat byproducts, except kidney; cherry, sweet; cherry, tart; goat, fat; goat, kidney; goat, meat; goat, meat byproducts, except kidney; grape; hazelnut; hop, dried cones; horse, fat; horse, kidney; horse, meat; horse, meat byproducts, except kidney; pear; pecan; sheep, fat; sheep, kidney; sheep, meat; and sheep, meat byproducts, except kidney; each with an expiration/revocation date of July 31, 2016.

Also, EPA is proposing to re-instate a footnote for the import tolerance on banana in 40 CFR 180.421(a), which was inadvertently removed on September 15, 2006 (71 FR 54423) (FRL-8077-9), as shown in the regulatory text at the end of this document.

14. Flusilazole. Because the tolerances in 40 CFR 180.630 for residues of flusilazole all expired on December 31, 2010, EPA proposes to remove that section in its entirety.

15. Gentamicin. Because the sole tolerance in 40 CFR 180.642 for residues of gentamicin expired on December 31, 2010, EPA proposes to remove that section in its entirety.

16. Imazamethabenz-methyl (2-(4-isopropyl-4-methyl-5-oxo-2-imidazolin-2-yl)-p-toluate and methyl 6-(4-isopropyl-4-methyl-5-oxo-2-imidazolin-2-yl)-m-toluate). In the Federal Register notice of May 20, 2014 (79 FR 28920) (FRL-9909-40), EPA announced its receipt of voluntary requests by registrants to cancel certain product registrations, including the last imazamethabenz-methyl products registered for use in or on food in the United States. In the Federal Register notice of August 6, 2014 (79 FR 45798) (FRL-9914-09), EPA published cancellation orders in follow-up to the May 20, 2014 notice, and granted the requested product cancellations for imazamethabenz-methyl. EPA permitted the registrant to sell and distribute existing stocks of one of the last imazamethabenz-methyl products for use in or on food until August 6, 2015 and the other until December 31, 2015 (per the registrant's request). Persons other than the registrant were permitted to sell, distribute, or use existing stocks until supplies are exhausted. EPA believes that existing stocks are likely to be exhausted by December 31, 2016. Therefore, EPA is proposing to revoke the tolerances for imazamethabenz-methyl in 40 CFR 180.437 on barley, grain; barley, straw; sunflower, seed; wheat, grain; and wheat, straw; each with an expiration/revocation date of December 31, 2016, revise the section heading to imazamethabenz-methyl, and designate the existing introductory text as paragraph (a). In addition, in order to describe more clearly the measurement and scope or coverage of the tolerances, EPA is proposing to revise the text in newly designated paragraph (a) to read as set out in the proposed regulatory text at the end of this document. The revision would not substantively change the tolerance or, in any way, modify the permissible level of residues permitted by the tolerance.

Also, in accordance with current Agency practice, EPA is proposing to revise 40 CFR 180.437 by adding separate paragraphs (b), (c), and (d), and reserving those sections for tolerances with section 18 emergency exemptions, regional registrations, and indirect or inadvertent residues, respectively.

17. Kaolin. Because the time-limited tolerance exemption in 40 CFR 180.1180(a) for the use of the pesticide kaolin on crops (apples, apricots, bananas, beans, cane berries, citrus fruits, corn, cotton, cranberries, cucurbits, grapes, melons, nuts, ornamentals, peaches, peanuts, pears, peppers, plums, potatoes, seed crops, small grains, soybeans, strawberries, sugar beets, and tomatoes) expired on December 31, 1999, EPA proposes to remove that paragraph and proposes to revise 40 CFR 180.1180(b) to 40 CFR 180.1180.

18. Lagenidium giganteum. In the Federal Register of September 28, 2011 (76 FR 60025) (FRL-8889-7), EPA published a notice which granted registrant-requested cancellations. That list included cancellation orders for the last active registrations for Lagenidium giganteum. The registrant was permitted to sell and distribute existing pesticide stocks until September 28, 2012. Persons other than the registrant were permitted to sell, distribute, and use existing stocks until exhaustion. EPA believes that existing stocks are exhausted; i.e., more than 2 years after the registrant was no longer permitted to sell and distribute them, and therefore the tolerance exemptions for them are no longer needed and should be revoked. Consequently, EPA is proposing to revoke the tolerance exemptions for residues in or on aspirated grain fractions; grass, forage; grass, hay; rice, grain; rice, straw; soybean, seed; soybean, forage; soybean, hay; and rice, wild, grain for Lagenidium giganteum in 40 CFR 180.1113.

19. Methamidophos. Because the tolerances in 40 CFR 180.315 for residues of methamidophos all expired, some on December 31, 2012 and others on December 31, 2013, EPA proposes to remove that section in its entirety.

20. Methyl parathion. Because the tolerances in 40 CFR 180.121 for residues of methyl parathion all expired on December 31, 2013, EPA proposes to remove that section in its entirety.

21. Multiple active ingredients. In the Federal Register of October 27, 2004 (69 FR 62666) (FRL-7683-7), EPA published a list of cancellation orders issued for non-payment of the annual maintenance fee to keep pesticide registrations in effect. That list included cancellation orders for the last active registrations for the following pesticide active ingredients: Delta endotoxin of Bacillus thuringiensis variety kurstaki encapsulated into killed Pseudomonas fluorescens, Ampelomyces quisqualis isolate M10, Candida oleophila isolateI-182, and CryIA(c) and CryIC derived delta-endotoxins of Bacillus thuringiensis var. kurstaki encapsulated in killed Pseudomonas fluorescens, and the expression plasmid and cloning vector genetic constructs. They have had no active registrations for over ten years, and therefore the tolerance exemptions for them are no longer needed and should be revoked. Consequently, EPA is proposing to revoke the tolerance exemptions for the following: Delta endotoxin of Bacillus thuringiensis variety kurstaki in 40 CFR 180.1107, Ampelomyces quisqualis isolate M10 in 40 CFR 180.1131, Candida oleophila isolate I-182 in 40 CFR 180.1144, and CryIA(c) and CryIC derived delta-endotoxins of Bacillus thuringiensis var. kurstaki encapsulated in killed Pseudomonas fluorescens, and the expression plasmid and cloning vector genetic constructs in 40 CFR 180.1154.

22. Phosalone. Because the tolerances in 40 CFR 180.263 for residues of phosalone all expired on September 30, 2013, EPA proposes to remove that section in its entirety.

23. Pseudomonas fluorescens strain PRA-25. Because the temporary tolerance exemption in 40 CFR 180.1200 for the use of the pesticide Pseudomonas fluorescens strain PRA-25 on peas, snap beans, and sweet corn expired on July 31, 2001, EPA proposes to remove that section in its entirety.

24. Pseudozyma flocculosa strain PF-A22 UL. In the Federal Register of July 27, 2011 (76 FR 44907) (FRL-8879-8), EPA published a list of cancellation orders issued for non-payment of the annual maintenance fee to keep pesticide registrations in effect. That list included cancellation orders for the last active registrations for Pseudozyma flocculosa strain PF-A22 UL. There have been no active registrations for over 3 years, and therefore the tolerance exemption for them is no longer needed and should be revoked. Consequently, EPA is proposing to revoke the tolerance exemption when used in or on all food commodities for Pseudozyma flocculosa strain PF-A22 UL in 40 CFR 180.1221.

25. Pythium oligandrum DV 74. EPA is proposing in 40 CFR 180.1275 to revise the section heading from “Pythium” to “Pythium oligandrum DV 74” and make minor grammatical, non-substantive revisions to the introductory text to read as set out in the proposed regulatory text at the end of this document.

26. Tepraloxydim. In the Federal Register notice of May 20, 2014 (79 FR 28920) (FRL-9909-40), EPA announced its receipt of voluntary requests by registrants to cancel certain product registrations, including the last tepraloxydim products registered for use in the United States. In the Federal Register notice of August 6, 2014 (79 FR 45798) (FRL-9914-09), EPA published cancellation orders in follow-up to the May 20, 2014 notice, and granted the requested product cancellations for tepraloxydim. The registrant indicated to EPA that tepraloxydim products were never marketed in the United States since the time of first registration, and therefore provisions for them to sell and distribute existing stocks are not necessary. Persons other than the registrant were permitted by EPA to sell, distribute, or use existing stocks until supplies are exhausted. The registrant stated that the products will continue to be used in Canada through 2017 and requested that EPA maintain the existing tolerances through 2018 in order to avoid trade barriers of tepraloxydim-treated commodities such as canola and dried peas and beans. Consequently, EPA is proposing to revoke the tolerances in 40 CFR 180.573(a)(1) on cotton, undelinted seed; cotton, gin byproducts; flax, seed; grain, aspirated fraction; pea and bean, dried shelled, except soybean, subgroup 6C; soybean, seed; soybean, hulls; and sunflower subgroup 20B; each with an expiration/revocation date of December 31, 2018.

Also, EPA is proposing to revoke the tolerances in 40 CFR 180.573(a)(2) on cattle, fat; cattle, kidney; cattle, meat; cattle, meat byproducts, except kidney; egg; goat, fat; goat, kidney; goat, meat; goat, meat byproducts, except kidney; hog, fat; hog, kidney; hog, meat; hog, meat byproducts, except kidney; horse, fat; horse, kidney; horse, meat; horse, meat byproducts, except kidney; milk; poultry, fat; poultry, liver; poultry, meat; poultry, meat byproducts, except liver; sheep, fat; sheep, kidney; sheep, meat; and sheep, meat byproducts, except kidney; each with an expiration/revocation date of December 31, 2018.

In addition, EPA is proposing to revoke the tolerance in 40 CFR 180.573(c) on canola, seed with an expiration/revocation date of December 31, 2018.

27. Thiacloprid. In the Federal Register notice of May 20, 2014 (79 FR 28920) (FRL-9909-40), EPA announced its receipt of voluntary requests by registrants to cancel certain product registrations, including the last thiacloprid products registered for use in the United States. In the Federal Register notice of August 6, 2014 (79 FR 45798) (FRL-9914-09), EPA published cancellation orders in follow-up to the May 20, 2014 notice, and granted the requested product cancellations for thiacloprid. EPA permitted the registrant to sell and distribute existing stocks of one of the last thiacloprid products until August 6, 2015 and the other until February 8, 2016 (per the registrant's request). Persons other than the registrant were permitted to sell, distribute, or use existing stocks until supplies are exhausted. EPA believes that existing stocks are likely to be exhausted by February 8, 2017. Therefore, EPA is proposing to revoke the tolerances for thiacloprid in 40 CFR 180.594(a) on apple, wet pomace; cattle, fat; cattle, kidney; cattle, liver; cattle, meat; cattle, meat byproducts; cherry subgroup 12-12A; cotton, gin byproducts; cotton, undelinted seed; fruit, pome, group 11; goat, fat; goat, kidney; goat, liver; goat, meat; goat, meat byproducts; horse, fat; horse, kidney; horse, liver; horse, meat; horse, meat byproducts; milk; peach subgroup 12-12B; pepper; plum subgroup 12-12C; sheep, fat; sheep, kidney; sheep, liver; sheep, meat; sheep, meat byproducts; each with an expiration/revocation date of February 8, 2017.

28. Thiazopyr. In the Federal Register notice of June 13, 2012 (77 FR 35379) (FRL-9351-7), EPA announced its receipt of voluntary requests by the registrants to cancel certain product registrations, including the last thiazopyr products registered for use on specific food commodities (grapefruit and orange) in the United States. In the Federal Register notice of September 12, 2012 (77 FR 56202) (FRL-9359-1), EPA published a cancellation order in follow-up to the June 13, 2012 notice and granted the requested product cancellations for thiazopyr. EPA permitted the registrant to sell and distribute existing stocks of those thiazopyr products until September 12, 2013 and persons other than the registrant to sell, distribute, and use existing stocks until supplies are exhausted. EPA believes that existing stocks are now exhausted. Therefore, EPA is proposing to revoke the tolerances for thiazopyr in 40 CFR 180.496 on grapefruit and orange, sweet.

29. Tralkoxydim. In the Federal Register notices of June 12, 2013 (78 FR 35268) (FRL-9388-5) and August 21, 2013 (78 FR 51721) (FRL-9396-5), EPA announced its receipt of voluntary requests by registrants to cancel certain product registrations, including the last tralkoxydim products registered for use in the United States. In the Federal Register notices of September 20, 2013 (78 FR 57850) (FRL-9396-3) and October 30, 2013 (78 FR 64938) (FRL-9403-2), EPA published cancellation orders in follow-up to the June 12, 2013 and August 21, 2013 notices, respectively, and granted the requested product cancellations for tralkoxydim. EPA permitted the registrant to sell and distribute existing stocks of those last tralkoxydim products until November 1, 2014 and persons other than the registrant to sell, distribute, or use existing stocks until supplies are exhausted. EPA believes that existing stocks are likely to be exhausted by November 1, 2015. However, as explained in Unit II.C., EPA is proposing that the actions herein become effective 6 months after the date of publication of the final rule in the Federal Register. Consequently, EPA expects that the effective date of the final rule will occur after the existing stocks are exhausted; i.e., after November 1, 2015. Therefore, EPA is proposing to revoke the tolerances for tralkoxydim in 40 CFR 180.548(a) on barley, grain; barley, hay; barley, straw; wheat, forage; wheat, grain; wheat, hay; and wheat, straw.

30. Tralomethrin. Because the tolerances in 40 CFR 180.422 for tralomethrin residues of concern all expired on July 9, 2013, EPA proposes to remove that section in its entirety.

31. Trichoderma harzianum strain T-39. In the Federal Register of August 3, 2005 (70 FR 44637) (FRL-7726-4), EPA published a list of cancellation orders issued for non-payment of the annual maintenance fee to keep pesticide registrations in effect. That list included cancellation orders for the last active registration for Trichoderma harzianum strain T-39. There have been no active registrations for over 9 years, and therefore the tolerance exemption for them is no longer needed and should be revoked. Consequently, EPA is proposing to revoke the tolerance exemption on all food commodities for Trichoderma harzianum strain T-39 in 40 CFR 180.1201.

32. Zucchini yellow mosaic virus-weak strain. In the Federal Register of July 28, 2010 (75 FR 44240) (FRL-8835-2), EPA published a list of cancellation orders issued for non-payment of the annual maintenance fee to keep pesticide registrations in effect. That list included cancellation orders for the last active registration for Zucchini yellow mosaic virus-weak strain. There have been no active registrations for over 4 years, and therefore the tolerance exemption for them is no longer needed and should be revoked. Consequently, EPA is proposing to revoke the tolerance exemption when used in or on all raw cucurbits for Zucchini yellow mosaic virus-weak strain in 40 CFR 180.1279.

B. What is the agency's authority for taking this action?

A “tolerance” represents the maximum level for residues of pesticide chemicals legally allowed in or on raw agricultural commodities and processed foods. Section 408 of FFDCA, 21 U.S.C. 346a, authorizes the establishment of tolerances, exemptions from tolerance requirements, modifications in tolerances, and revocation of tolerances for residues of pesticide chemicals in or on raw agricultural commodities and processed foods. Without a tolerance or exemption, food containing pesticide residues is considered to be unsafe and therefore “adulterated” under FFDCA section 402(a), 21 U.S.C. 342(a). Such food may not be distributed in interstate commerce, 21 U.S.C. 331(a). For a food-use pesticide to be sold and distributed, the pesticide must not only have appropriate tolerances under the FFDCA, but also must be registered under the Federal Insecticide, Fungicide, and Rodenticide Act (FIFRA), 7 U.S.C. 136 et seq. Food-use pesticides not registered in the United States must have tolerances in order for commodities treated with those pesticides to be imported into the United States.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under FFDCA section 408, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When do these actions become effective?

EPA is proposing that the actions herein become effective 6 months after the date of publication of the final rule in the Federal Register. EPA is proposing this effective date for these actions to allow a reasonable interval for producers in exporting members of the World Trade Organization's (WTO's) Sanitary and Phytosanitary (SPS) Measures Agreement to adapt to the requirements of a final rule. With the exception of the proposed revocation of tolerances with expiration dates for fenarimol, imazamethabenz-methyl, tepraloxydim, and thiacloprid, the Agency believes that existing stocks of pesticide products labeled for the uses associated with the tolerances proposed for revocation have been completely exhausted and that treated commodities have cleared the channels of trade. Where EPA is proposing revocation with expiration dates for fenarimol, imazamethabenz-methyl, tepraloxydim, and thiacloprid, the Agency believes that this revocation date allows users to exhaust stocks and allows sufficient time for passage of treated commodities through the channels of trade. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nations Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for etridiazole, imazamethabenz-methyl, tepraloxydim, thiazopyr, and tralkoxydim.

The Codex has established MRLs for acephate, in or on various commodities, including beans, except broad bean and soya bean at 5 milligrams/kilogram (mg/kg). The beans, except broad bean and soya bean MRL is different than the tolerance established for alidicarb on succulent bean in the United States because of a difference in use pattern and/or agricultural practice.

The Codex has established MRLs for aldicarb, in or on various commodities, including sorghum at 0.1 mg/kg, which is covered by a current U.S. tolerance at a higher level than the MRL, and sorghum straw and fodder, dry at 0.5 mg/kg, which is the same as the U.S. tolerance. The sorghum MRL is different than the tolerance established for alidicarb in the United States because of a difference in use pattern and/or agricultural practice.

The Codex has established MRLs for azinphos-methyl in or on various commodities, including almond hulls and blueberries at 5 m/kilogram (mg/kg), cherries, peach, and plums (including prunes) at 2 mg/kg, and walnuts at 0.3 mg/kg. These MRLs are the same as the tolerances established for azinphos-methyl in the United States.

The Codex has established MRLs for azinphos-methyl, in or on various commodities, including almonds and apple at 0.05 mg/kg (which are covered by current U.S. tolerances at a higher level than the MRLs), and pear at 2 mg/kg. These MRLs are different than the tolerances established for azinphos-methyl in the United States because of differences in use patterns and/or agricultural practices.

The Codex has established MRLs for fenarimol in or on various commodities, including cattle, liver at 0.05 mg/kg, cherries at 1 mg/kg, hops, dry at 5 mg/kg, and pecan at 0.02 mg/kg. These MRLs are the same as the tolerances established for fenarimol in the United States.

The Codex has established MRLs for fenarimol, in or on various commodities, including cattle kidney and cattle meat at 0.02 mg/kg; and grapes at 0.3 mg/kg. These MRLs are different than the tolerances established for fenarimol in the United States because of differences in use patterns and/or agricultural practices.

The Codex has established MRLs for thiacloprid in or on various commodities, including cotton seed at 0.02 mg/kg, peppers, sweet at 1 mg/kg, and stone fruits at 0.5 mg/kg (for U.S. tolerances on cherry subgroup and peach subgroup). These MRLs are the same as the tolerances established for thiacloprid in the United States.

The Codex has established MRLs for thiacloprid, in or on various commodities, including milks at 0.05 mg/kg; pome fruits at 0.7 mg/kg, and stone fruits at 0.5 mg/kg (for U.S. tolerance on plum subgroup). These MRLs are different than the tolerances established for thiacloprid in the United States because of differences in use patterns and/or agricultural practices.

IV. Statutory and Executive Order Reviews

In this proposed rule, EPA is proposing to revoke specific tolerances established under FFDCA section 408. The Office of Management and Budget (OMB) has exempted this type of action (e.g., tolerance revocation for which extraordinary circumstances do not exist) from review under Executive Order 12866, entitled “Regulatory Planning and Review” (58 FR 51735, October 4, 1993). Because this proposed rule has been exempted from review under Executive Order 12866 due to its lack of significance, this proposed rule is not subject to Executive Order 13211, entitled “Actions Concerning Regulations That Significantly Affect Energy Supply, Distribution, or Use” (66 FR 28355, May 22, 2001). This proposed rule does not contain any information collections subject to OMB approval under the Paperwork Reduction Act (PRA) (44 U.S.C. 3501 et seq.), or impose any enforceable duty or contain any unfunded mandate as described under Title II of the Unfunded Mandates Reform Act (UMRA) (2 U.S.C. 1501 et seq.). Nor does it require any special considerations as required by Executive Order 12898, entitled “Federal Actions to Address Environmental Justice in Minority Populations and Low-Income Populations” (59 FR 7629, February 16, 1994); or OMB review or any other Agency action under Executive Order 13045, entitled “Protection of Children from Environmental Health Risks and Safety Risks” (62 FR 19885, April 23, 1997). This proposed rule does not involve any technical standards that would require Agency consideration of voluntary consensus standards pursuant to section 12(d) of the National Technology Transfer and Advancement Act (NTTAA) (15 U.S.C. 272 note). Pursuant to the Regulatory Flexibility Act (RFA) (5 U.S.C. 601 et seq.), the Agency previously assessed whether revocations of tolerances might significantly impact a substantial number of small entities and concluded that, as a general matter, these actions do not impose a significant economic impact on a substantial number of small entities. This analysis was published in the Federal Register of December 17, 1997 (62 FR 66020) (FRL-5753-1), and was provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticides named in this proposed rule, the Agency knows of no extraordinary circumstances that exist as to the present proposed rule that would change EPA's previous analysis. Any comments about the Agency's determination should be submitted to the EPA along with comments on the proposed rule, and will be addressed prior to issuing a final rule. In addition, the Agency has determined that this proposed rule will not have a substantial direct effect on States, on the relationship between the national government and the States, or on the distribution of power and responsibilities among the various levels of government, as specified in Executive Order 13132, entitled “Federalism” (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This proposed rule does not alter the relationships or distribution of power and responsibilities established by Congress in the preemption provisions of FFDCA section 408(n)(4). For these same reasons, the Agency has determined that this proposed rule does not have any “tribal implications” as described in Executive Order 13175, entitled “Consultation and Coordination with Indian Tribal Governments” (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: July 7, 2015.
Jack E. Housenger,
Director, Office of Pesticide Programs.

Therefore, it is proposed that 40 CFR chapter I be amended as follows:

PART 180—[AMENDED]

1. The authority citation for part 180 continues to read as follows:

Authority: 21 U.S.C. 321(q), 346a and 371.

§ 180.108 [Amended]

2. In § 180.108, remove the entries for “Bean, succulent” from the tables in paragraphs (a)(1) and (3).

§§ 180.121, 180.154, 180.232, 180.257, and 180.263 [Removed]

3. Remove §§ 180.121, 180.154, 180.232, 180.257, and 180.263.

§ 180.269 [Amended]

4. In § 180.269, remove the entries for “Sorghum, grain, bran,” “Sorghum, grain, grain,” and “Sorghum, grain, stover,” from the table in paragraph (a).

§§ 180.311 and 180.315 [Removed]

5. Remove §§ 180.311 and 180.315.

6. In § 180.370, revise the table in paragraph (a) to read as follows:

§ 180.370 5-Ethoxy-3-(trichloromethyl)-1,2,4-thiadiazole; tolerances for residues.

(a) * * *

Commodity | Parts per million
Cotton, gin byproducts | 0.1
Cotton, undelinted seed | 0.1
Tomato | 0.15

* * * * *

7. In § 180.421, revise the table in paragraph (a) to read as follows:

§ 180.421 Fenarimol; tolerances for residues.

(a) * * *

Commodity | Parts per million | Expiration/ revocation date
Apple | 0.3 | 7/31/16
Apple, wet pomace | 0.3 | 7/31/16
Banana¹ | 0.25 | None
Cattle, fat | 0.01 | 7/31/16
Cattle, kidney | 0.01 | 7/31/16
Cattle, meat | 0.01 | 7/31/16
Cattle, meat byproducts, except kidney | 0.05 | 7/31/16
Cherry, sweet | 1.0 | 7/31/16
Cherry, tart | 1.0 | 7/31/16
Goat, fat | 0.01 | 7/31/16
Goat, kidney | 0.01 | 7/31/16
Goat, meat | 0.01 | 7/31/16
Goat, meat byproducts, except kidney | 0.05 | 7/31/16
Grape | 0.1 | 7/31/16
Hazelnut | 0.02 | 7/31/16
Hop, dried cones | 5.0 | 7/31/16
Horse, fat | 0.01 | 7/31/16
Horse, kidney | 0.01 | 7/31/16
Horse, meat | 0.01 | 7/31/16
Horse, meat byproducts, except kidney | 0.05 | 7/31/16
Pear | 0.1 | 7/31/16
Pecan | 0.02 | 7/31/16
Sheep, fat | 0.01 | 7/31/16
Sheep, kidney | 0.01 | 7/31/16
Sheep, meat | 0.01 | 7/31/16
Sheep, meat byproducts, except kidney | 0.05 | 7/31/16
Vegetable, cucurbit, group 9 ² | 0.20 | None
¹ There are no U.S. registrations for bananas as of April 26, 1995.
² There are no U.S. registrations for cucurbit vegetable group 9 as of August 27, 2010.

* * * * *

§ 180.422 [Removed]

8. Remove § 180.422.

9. Revise § 180.437 to read as follows:

§ 180.437 Imazamethabenz-methyl; tolerances for residues.

(a) General. Tolerances are established for residues of the herbicide imazamethabenz-methyl, including its metabolites and degradates, in or on the commodities in the table in this paragraph. Compliance with the tolerance levels specified in this paragraph is to be determined by measuring only imazamethabenz-methyl (methyl 2-[4,5-dihydro-4-methyl-4-(1-methylethyl)-5-oxo-1H-imidazol-2-yl]-4-methylbenzoate) or (methyl 2-[4,5-dihydro-4-methyl-4-(1-methylethyl)-5-oxo-1H-imidazol-2-yl]-5-methylbenzoate), as the sum of its para- and meta-isomers in or on the commodity.

Commodity | Parts per million | Expiration/ revocation date
Barley, grain | 0.10 | 12/31/16
Barley, straw | 2.00 | 12/31/16
Sunflower, seed | 0.10 | 12/31/16
Wheat, grain | 0.10 | 12/31/16
Wheat, straw | 2.00 | 12/31/16

(b) Section 18 emergency exemptions. [Reserved]

(c) Tolerances with regional registrations. [Reserved]

(d) Indirect or inadvertent residues. [Reserved]

§§ 180.496, 180.497, 180.530, and 180.548 [Removed]

10. Remove §§ 180.496, 180.497, 180.530, and 180.548.

11. In § 180.573, revise the table in paragraphs (a)(1), (a)(2), and (c) to read as follows:

§ 180.573 Tepraloxydim; tolerances for residues.

(a) * * * (1) * * *

Commodity | Parts per million | Expiration/ revocation date
Cotton, undelinted seed | 0.2 | 12/31/18
Cotton, gin byproducts | 3.0 | 12/31/18
Flax, seed | 0.10 | 12/31/18
Grain, aspirated fraction | 1200.0 | 12/31/18
Pea and bean, dried shelled, except soybean, subgroup 6C ¹ | 0.10 | 12/31/18
Soybean, seed | 6.0 | 12/31/18
Soybean, hulls | 8.0 | 12/31/18
Sunflower subgroup 20B ¹ | 0.20 | 12/31/18
¹ There are no U.S. registrations for commodities in this subgroup.

(2) * * *

Commodity | Parts per million | Expiration/ revocation date
Cattle, fat | 0.15 | 12/31/18
Cattle, kidney | 0.50 | 12/31/18
Cattle, meat | 0.20 | 12/31/18
Cattle, meat, byproducts, except kidney | 0.20 | 12/31/18
Egg | 0.20 | 12/31/18
Goat, fat | 0.15 | 12/31/18
Goat, kidney | 0.50 | 12/31/18
Goat, meat | 0.20 | 12/31/18
Goat, meat, byproducts, except kidney | 0.20 | 12/31/18
Hog, fat | 0.15 | 12/31/18
Hog, kidney | 0.50 | 12/31/18
Hog, meat | 0.20 | 12/31/18
Hog, meat, byproducts, except kidney | 0.20 | 12/31/18
Horse, fat | 0.15 | 12/31/18
Horse, kidney | 0.50 | 12/31/18
Horse, meat | 0.20 | 12/31/18
Horse, meat, byproducts, except kidney | 0.20 | 12/31/18
Milk | 0.10 | 12/31/18
Poultry, fat | 0.30 | 12/31/18
Poultry, liver | 1.00 | 12/31/18
Poultry, meat | 0.20 | 12/31/18
Poultry, meat byproducts, except liver | 0.20 | 12/31/18
Sheep, fat | 0.15 | 12/31/18
Sheep, kidney | 0.50 | 12/31/18
Sheep, meat | 0.20 | 12/31/18
Sheep, meat byproducts, except kidney | 0.20 | 12/31/18

* * * * *

(c) * * *

Commodity | Parts per million | Expiration/ revocation date
Canola, seed | 0.50 | 12/31/18

* * * * *

12. In § 180.594, revise the table in paragraph (a) to read as follows:

§ 180.594 Thiacloprid; tolerances for residues.

(a) * * *

Commodity | Parts per million | Expiration/ revocation date
Apple, wet pomace | 0.60 | 2/8/17
Cattle, fat | 0.020 | 2/8/17
Cattle, kidney | 0.050 | 2/8/17
Cattle, liver | 0.15 | 2/8/17
Cattle, meat | 0.030 | 2/8/17
Cattle, meat byproducts | 0.050 | 2/8/17
Cherry subgroup 12-12A | 0.5 | 2/8/17
Cotton, gin byproducts | 11.0 | 2/8/17
Cotton, undelinted seed | 0.020 | 2/8/17
Fruit, pome, group 11 | 0.30 | 2/8/17
Goat, fat | 0.020 | 2/8/17
Goat, kidney | 0.050 | 2/8/17
Goat, liver | 0.15 | 2/8/17
Goat, meat | 0.030 | 2/8/17
Goat, meat byproducts | 0.050 | 2/8/17
Horse, fat | 0.020 | 2/8/17
Horse, kidney | 0.050 | 2/8/17
Horse, liver | 0.15 | 2/8/17
Horse, meat | 0.030 | 2/8/17
Horse, meat byproducts | 0.050 | 2/8/17
Milk | 0.030 | 2/8/17
Peach subgroup 12-12B | 0.5 | 2/8/17
Pepper | 1.0 | 2/8/17
Peach subgroup 12-12C | 0.05 | 2/8/17
Sheep, fat | 0.020 | 2/8/17
Sheep, kidney | 0.050 | 2/8/17
Sheep, liver | 0.15 | 2/8/17
Sheep, meat | 0.030 | 2/8/17
Sheep, meat byproducts | 0.050 | 2/8/17

* * * * *

§ § 180.630, 180.642, 180.1107, 180.1108, 180.1113, 180.1131, 180.1144, and 180.1154 [Removed]

13. Remove § § 180.630, 180.642, 180.1107, 180.1108, 180.1113, 180.1131, 180.1144, and 180.1154.

14. Revise § 180.1180 to read as follows:

§ 180.1180 Kaolin; exemption from the requirement of a tolerance.

Kaolin is exempted from the requirement of a tolerance for residues when used on or in food commodities to aid in the control of insects, fungi, and bacteria (food/feed use).

§ § 180.1200, 180.1201, 180.1221, 180.1241, and 180.1256 [Removed]

15. Remove §§ 180.1200, 180.1201, 180.1221, 180.1241, and 180.1256.

16. Revise § 180.1275 to read as follows:

§ 180.1275 Pythium oligandrum DV 74; exemption from the requirement of a tolerance.

An exemption from the requirement of a tolerance is established on all food/feed commodities for residues of Pythium oligandrum DV 74 when the pesticide is used on food crops.

§ 180.1279 [Removed]

17. Remove § 180.1279.

[FR Doc. 2015-17628 Filed 7-21-15; 8:45 am]

BILLING CODE 6560-50-P